DEPARTMENT OF TRANSPORTATION

Office of the Secretary

Aviation Proceedings, Agreements Filed During Week Ending October 26, 2001

The following Agreements were filed with the Department of Transportation under provisions of 49 U.S.C. 412 and 414. Answers may be filed within 21 days after the filing of the applications.

Docket Number: OST-2001-10883.

Date Filed: October 23, 2001.

Parties: Members of the International Air Transport Association.

Subject: PTC23 Middle East-TC3 (except South East Asia) dated October 23, 2001. Expedited Middle East-TC3 Resolutions r1-r10. Intended effective date: December 1, 2001.

Docket Number: OST-2001-10887.

Date Filed: October 24, 2001.

Parties: Members of the International Air Transport Association.

Subject: Mail Vote 147. PTC123 0164 dated October 23, 2001. TC123 North Atlantic (except USA-Malaysia) Resolutions r1-r26. Minutes—PTC123 0160 dated October 16, 2001. Tables—PTC123 Fares 0062 dated October 26, 2001. Intended effective date: November 1, 2001/March 1, 2002.

Docket Number: OST-2001-10904.

Date Filed: October 24, 2001.

Parties: Members of the International Air Transport Association.

Subject: Mail Vote 150. PTC123 0157 dated September 24, 2001. TC123 North Atlantic between USA and Malaysia. Resolutions r1-r9. TC123 0165 dated October 23, 2001 (Affirmative). Minutes—PTC123 0161 dated October 19, 2001. Tables—PTC123 FARES 0063 dated October 26, 2001. Intended effective date: March 1, 2002.

Dorothy Y. Beard,
Federal Register Liaison.

[FR Doc. 01-28618 Filed 11-14-01; 8:45 am]

BILLING CODE 4910-62-P